DEPARTMENT OF TRANSPORTATION

Federal Aviation Administration

14 CFR Part 39

[Docket No. FAA-2010-0611; Directorate Identifier 2009-SW-18-AD]

RIN 2120-AA64

Airworthiness Directives; Eurocopter France Model AS 350 B, BA, B1, B2, B3, and D, and Model AS355 E, F, F1, F2, and N Helicopters

AGENCY: Federal Aviation Administration, DOT.

ACTION: Notice of proposed rulemaking (NPRM).

SUMMARY: We propose to adopt a new airworthiness directive (AD) for the Eurocopter France Model AS 350 B, BA, B1, B2, B3, and D, and Model AS355 E, F, F1, F2, and N helicopters, with certain main rotor servo-controls and tail rotor servo-controls. This proposed AD would require replacing all servo-controls that are identified in the Applicability section of this proposed AD. This proposed AD is prompted by an internal review conducted by the manufacturer which revealed that some main and tail rotor servo-controls do not conform to the approved design. The actions specified by this proposed AD are intended to prevent the distributor slide valve jamming in its sleeve, leading to reduced controllability of the rotors and subsequent loss of control of the helicopter.

DATES: Comments must be received on or before August 16, 2010.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, Texas 75053-4005, telephone (972) 641-3460, fax (972) 641-3527.

You may examine the comments to this proposed AD in the AD docket on the Internet at http://www.regulations.gov.

FOR FURTHER INFORMATION CONTACT: J.R. Holton, Aviation Safety Engineer, FAA, Rotorcraft Directorate, Regulations and Guidance Group, ASW-111, 2601 Meacham Blvd., Fort Worth, Texas 76137, telephone (817) 222-4964, fax (817) 222-5961.

SUPPLEMENTARY INFORMATION:

Comments Invited

We invite you to submit any written data, views, or arguments regarding this proposed AD. Send your comments to the address listed under the caption ADDRESSES. Include the docket number “FAA-2010-0611, Directorate Identifier 2009-SW-18-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of the docket Web site, you can find and read the comments to any of our dockets, including the name of the individual who sent or signed the comment. You may review the DOT's complete Privacy Act Statement in the Federal Register published on April 11, 2000 (65 FR 19477-78).

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

The European Aviation Safety Agency (EASA), which is the Technical Agent for the Member States of the European Community, has issued EASA Emergency AD No. 2007-0141-E, dated May 21, 2007, to correct an unsafe condition for certain Eurocopter France Model AS 350 B, BA, BB, B1, B2, B3, and D, and Model AS355 E, F, F1, F2, and N helicopters. EASA advises that an internal review revealed that some main and tail rotor servo-controls do not conform to the approved design. This results in a greater play in the input lever bearing which could lead to off-centered lever/distributor slide valve. If not corrected, this condition could jam the distributor slide valve in its sleeve, contributing to reduced controllability of the rotors and subsequent loss of control of the helicopter.

Related Service Information

Eurocopter has issued Emergency Alert Service Bulletin (EASB) No. 01.00.58, applicable to Model AS 350 B, BA, BB, B1, B2, B3, and D helicopters, and EASB No. 01.00.53, applicable to Model AS355 E, F, F1, F2, and N helicopters, both Revision 1 and both dated April 19, 2007, “to preclude the risk of jamming of the distributor slide valve in its sleeve, due to excessive play in the bearing of the servo-control input lever.” Both EASB 01.00.58 and 01.00.53, along with 01.00.22 and 01.00.23 for various military model helicopters are contained in the same EASB document. The EASA classified these EASBs as mandatory and issued EASA Emergency AD No. 2007-0141-E, dated May 21, 2007, to ensure the continued airworthiness of these helicopters.

FAA's Evaluation and Unsafe Condition Determination

These products have been approved by the aviation authority of France and are approved for operation in the United States. Pursuant to our bilateral agreement with France, EASA, their technical representative, has notified us of the unsafe condition described in the MCAI AD. We are proposing this AD because we evaluated all information provided by EASA and determined the unsafe condition exists and is likely to exist or develop on other products of these same type designs. This proposed AD would require replacing all servo-controls with serial numbers that are in the Applicability section of this proposed AD.

Differences Between This Proposed AD and the EASA AD

This proposed AD does not require returning servo-controls to the manufacturer for return to conformity. The proposed AD does not require inspecting for the existence of “hard points” in the flight controls.

Costs of Compliance

We estimate that this proposed AD would affect 56 helicopters of U.S. registry and the proposed actions would take approximately 1.5 work hours per helicopter to accomplish at an average labor rate of $85 per work hour. Required parts would cost approximately $16,500 per helicopter. Based on these figures, we estimate the total cost impact of the proposed AD on U.S. operators to be $931,140 for the entire fleet.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. FAA-2010-0611; Directorate Identifier 2009-SW-18-AD.

Applicability: Model AS 350 B, BA, B1, B2, B3, and D, and Model AS355 E, F, F1, F2, and N helicopters, with a main rotor or tail rotor servo-control identified in Table 1, installed, certificated in any category.

Table 1
Component | Part No. (P/N) | Serial No. (S/N)
Main rotor servo-control | P/N SC5083 | S/N 270M, 272M, 409M, 423M, 452M, or 1573.
| P/N SC5083-1 | S/N 2902 through 2921, inclusive.
| P/N 5084 | S/N 30, 84, 104, 186, 438, 575, or 695.
| P/N 5084-1 | S/N 1462 through 1481, inclusive.
Tail rotor servo-control | P/N SC5072 | S/N 222M, 306M, or 309.

Compliance: Required as indicated.

To prevent the distributor slide valve jamming in its sleeve, leading to reduced controllability of the rotors and subsequent loss of control of the helicopter, accomplish the following:

(a) Within 50 hours time-in-service (TIS), or when a “hard point” is detected in the flight controls, whichever occurs earlier, replace each installed servo control that has a serial number listed in Table 1 of this AD, with an airworthy servo control.

Note 1: Eurocopter EASB 01.00.58 and 01.00.53 have guidance which pertains to the subject of this AD.

(b) To request a different method of compliance or a different compliance time for this AD, follow the procedures in 14 CFR 39.19. Contact the Manager, Safety Management Group, Rotorcraft Directorate, FAA, ATTN: J.R. Holton, Aviation Safety Engineer, Regulations and Policy Group, ASW-111, 2601 Meacham Blvd., Fort Worth, Texas 76137, telephone (817) 222-4964, fax (817) 222-5961, for information about previously approved alternative methods of compliance.

(c) The Joint Aircraft System/Component (JASC) Code is 6730: Rotorcraft Servo System.

Note 2: The subject of this AD is addressed in Eurocopter Aviation Safety Agency (France) Emergency AD No. 2007-0141-E, dated May 21, 2007.

Issued in Fort Worth, Texas, on June 9, 2010.
Scott A. Horn,
Acting Manager, Rotorcraft Directorate, Aircraft Certification Service.

[FR Doc. 2010-14540 Filed 6-15-10; 8:45 am]

BILLING CODE 4910-13-P